DEPARTMENT OF THE INTERIOR

National Park Service

[NPS-WASO-NAGPRA-NPS0024979; PPWOCRADN0-PCU00RP14.R50000]

Notice of Inventory Completion: History Colorado, Formerly Colorado Historical Society, Denver, CO

AGENCY: National Park Service, Interior.

ACTION: Notice.

SUMMARY: History Colorado has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to History Colorado. If no additional requestors come forward, transfer of control of the human remains to the Indian Tribes or Native Hawaiian organizations stated in this notice may proceed.

DATES: Representatives of any Indian Tribe or Native Hawaiian organization not identified in this notice that wish to request transfer of control of these human remains should submit a written request with information in support of the request to History Colorado at the address in this notice by March 26, 2018.

ADDRESSES: Sheila Goff, History Colorado, Denver, CO 80203, telephone (303) 866-4531, email sheila.goff@state.co.us.

SUPPLEMENTARY INFORMATION: Notice is here given in accordance with the Native American Graves Protection and Repatriation Act (NAGPRA), 25 U.S.C. 3003, of the completion of an inventory of human remains under the control of History Colorado, Denver, CO. The human remains were removed from an unknown location in South Dakota.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by History Colorado professional staff in consultation with representatives of the Cheyenne River Sioux Tribe of the Cheyenne River Reservation, South Dakota; Flandreau Santee Sioux Tribe of South Dakota; Iowa Tribe of Kansas and Nebraska; Iowa Tribe of Oklahoma; Lower Brule Sioux Tribe of the Lower Brule Reservation, South Dakota; Lower Sioux Indian Community in the State of Minnesota; Oglala Sioux Tribe (previously listed as the Oglala Sioux Tribe of the Pine Ridge Reservation, South Dakota); Otoe-Missouria Tribe of Indians, Oklahoma; Ponca Tribe of Indians of Oklahoma; Ponca Tribe of Nebraska; Prairie Island Indian Community in the State of Minnesota; Rosebud Sioux Tribe of the Rosebud Indian Reservation, South Dakota; Sac & Fox Nation, Oklahoma; Sac & Fox Tribe of the Mississippi in Iowa; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; Upper Sioux Community, Minnesota; and the Yankton Sioux Tribe of South Dakota. The Assiniboine and Sioux Tribes of the Fort Peck Indian Reservation, Montana; Crow Creek Sioux Tribe of the Crow Creek Reservation, South Dakota; Omaha Tribe of Nebraska; and the Sac & Fox Nation of Missouri in Kansas and Nebraska were invited to consult, but did not participate (hereafter referred to as “The Invited and Consulted Tribes”).

History and Description of the Remains

At some time before 1996, human remains representing, at minimum, one individual were removed from an unknown location in South Dakota and delivered to the Colorado Office of Archaeology and Historic Preservation in 1996. The human remains are of an adult female. No known individual was identified. No associated funerary objects are present.

History Colorado has no evidence that at the time of the excavation and removal of these human remains the land from which the human remains were removed was the tribal land of any Indian Tribe or Native Hawaiian organization. Between February 2015 and November 2017, History Colorado contacted The Invited and Consulted Tribes, who are recognized as aboriginal to the area from which these Native American human remains were removed, requesting telephonic consultation. The Cheyenne River Sioux Tribe of the Cheyenne River Reservation, South Dakota, have agreed to accept control of the human remains and the Indian Tribes who participated in consultations concurred.

Determinations Made by the History Colorado

Officials of History Colorado have determined that:

• Pursuant to 25 U.S.C. 3001(9), the human remains described in this notice are Native American based on osteological analysis conducted at Metropolitan State University of Denver.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Invited and Consulted Tribes.

• Treaties, Acts of Congress, or Executive Orders, indicate that the land from which the Native American human remains were removed is the aboriginal land of The Invited and Consulted Tribes.

• Pursuant to 43 CFR 10.11(c)(1), the disposition of the human remains may be to The Invited and Consulted Tribes.

Additional Requestors and Disposition

Representatives of any Indian Tribe or Native Hawaiian organization not identified in this notice that wish to request transfer of control of these human remains should submit a written request with information in support of the request to Sheila Goff, History Colorado, Denver, CO 80203, telephone (303) 866-4531, email sheila.goff@state.co.us, by March 26, 2018. After that date, if no additional requestors have come forward, transfer of control of the human remains to The Invited and Consulted Tribes may proceed.

History Colorado is responsible for notifying The Invited and Consulted Tribes that this notice has been published.

Dated: February 2, 2018.
Melanie O'Brien,
Manager, National NAGPRA Program.

[FR Doc. 2018-03632 Filed 2-21-18; 8:45 am]

BILLING CODE 4312-52-P